NUCLEAR REGULATORY COMMISSION

Advisory Committee on Reactor Safeguards; Subcommittee Meeting on Thermal-Hydraulic Phenomena; Notice of Meeting

The ACRS Subcommittee on Thermal-Hydraulic Phenomena will hold a meeting on November 19 and 20, 2003, Room T-2B3, 11545 Rockville Pike, Rockville, Maryland.

The entire meeting will be open to public attendance.

The agenda for the subject meeting shall be as follows:

Wednesday and Thursday, November 19-20, 2003—8:30 a.m. until the conclusion of business. The Subcommittee will discuss the ongoing development by the Office of Nuclear Regulatory Research of the TRAC/RELAP Advanced Computational Engine (TRACE). This is an advanced nuclear reactor thermal-hydraulic systems analysis computer code, which is intended to replace several other, more specialized reactor analytical tools. The Subcommittee will hear presentations by and hold discussions with representatives of the NRC staff regarding this matter. The Subcommittee will gather information, analyze relevant issues and facts, and formulate proposed positions and actions, as appropriate, for deliberation by the full Committee.

Members of the public desiring to provide oral statements and/or written comments should notify the Designated Federal Official, Mr. Ralph Caruso (Telephone: 301-415-1813) five days prior to the meeting, if possible, so that appropriate arrangements can be made. Electronic recordings will be permitted during the meeting.

Further information regarding this meeting can be obtained by contacting the Designated Federal Official between 7:30 a.m. and 4:15 p.m. (e.t.). Persons planning to attend this meeting are urged to contact the above named individual at least two working days prior to the meeting to be advised of any potential changes to the agenda.

Dated: November 5, 2003.
Sher Bahadur,
Associate Director for Technical Support, ACRS/ACNW.

[FR Doc. 03-28414 Filed 11-12-03; 8:45 am]

BILLING CODE 7590-01-P